DEPARTMENT OF COMMERCE

Foreign-Trade Zones Board

[Order No. 1920]

Reorganization of Foreign-Trade Zone 18 (Expansion of Service Area) Under Alternative Site Framework, San Jose, California

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of San Jose, grantee of Foreign-Trade Zone 18, submitted an application to the Board (FTZ Docket B-72-2013, docketed 07-01-2013) for authority to expand the service area of the zone to include all of Santa Clara County, California, the cities of Santa Cruz and Scotts Valley in Santa Cruz County, California, and the cities of Fremont, Hayward, Newark and Union City in Alameda County, California, as described in the application, adjacent to the San Jose U.S. Customs and Border Protection port of entry;

Whereas, notice inviting public comment was given in the Federal Register (78 FR 40691-40692, 07-08-2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 18 to expand the service area under the ASF is approved, subject to the FTZ Act and the Board's regulations, including Section 400.13, and to the Board's standard 2,000-acre activation limit for the zone.

Signed at Washington, DC, this 8th day of November 2013.
Paul Piquado,
Assistant Secretary of Commerce for Enforcement and Compliance, Alternate Chairman, Foreign-Trade Zones Board.
Andrew McGilvray,
Executive Secretary.

[FR Doc. 2013-28350 Filed 11-25-13; 8:45 am]

BILLING CODE 3510-DS-P